DEPARTMENT OF COMMERCE

Foreign-Trade Zones Board

[S-70-2024]

Foreign-Trade Zone 273; Application for Subzone; Sediver USA, Inc.; West Memphis, Arkansas

An application has been submitted to the Foreign-Trade Zones (FTZ) Board by the City of West Memphis, Arkansas Public Facilities Board, grantee of FTZ 273, requesting subzone status for the facility of Sediver USA, Inc., located in West Memphis, Arkansas. The application was submitted pursuant to the provisions of the Foreign-Trade Zones Act, as amended (19 U.S.C. 81a-81u), and the regulations of the FTZ Board (15 CFR part 400). It was formally docketed on April 17, 2024.

The proposed subzone (1.926 acres) is located at One Sediver Way in West Memphis, Arkansas. No authorization for production activity has been requested at this time. The proposed subzone would be subject to the existing activation limit of FTZ 273.

In accordance with the FTZ Board's regulations, Camille Evans of the FTZ Staff is designated examiner to review the application and make recommendations to the Executive Secretary.

Public comment is invited from interested parties. Submissions shall be addressed to the FTZ Board's Executive Secretary and sent to: ftz@trade.gov. The closing period for their receipt is June 10, 2024. Rebuttal comments in response to material submitted during the foregoing period may be submitted during the subsequent 15-day period to June 25, 2024.

A copy of the application will be available for public inspection in the “Online FTZ Information Section” section of the FTZ Board's website, which is accessible via www.trade.gov/ftz.

For further information, contact Camille Evans at Camille.Evans@trade.gov.

Dated: April 17, 2024.
Elizabeth Whiteman,
Executive Secretary.

[FR Doc. 2024-09419 Filed 4-30-24; 8:45 am]

BILLING CODE 3510-DS-P